DEPARTMENT OF HOUSING AND URBAN DEVELOPMENT

Office of Federal Housing Enterprise Oversight

Privacy Act of 1974: Notice of Establishment of New Systems of Records

AGENCY: Office of Federal Housing Enterprise Oversight, HUD.

ACTION: Notice of New Systems of Records.

SUMMARY: In accordance with the Privacy Act of 1974, as amended, 5 U.S.C. 552a (Privacy Act), the Office of Federal Housing Enterprise Oversight (OFHEO) is issuing public notice of its intent to establish three new Privacy Act systems of records. The three systems are titled Emergency Contingency Plan and Personnel Locator System, Mortgage Fraud System, and Computer Systems Activity and Access Records System. OFHEO seeks comment on the new systems of records described in this notice.

The Emergency Contingency Plan and Personnel Locator System will be established to maintain emergency contact information for use in developing and implementing an emergency plan, including a continuity of operations and essential functions plan, and to maintain a facilities evacuation plan. This system will enable OFHEO to adequately coordinate a plan for preparedness and facilities evacuation in the event of an emergency. The Mortgage Fraud System will maintain information of mortgage fraud or possible mortgage fraud involving the Federal National Mortgage Association and the Federal Home Loan Mortgage Association (collectively referred to as the “Enterprises”). This system is being established so that OFHEO may respond appropriately to mortgage fraud in furtherance of the safe and sound operations of the Enterprises. The Computer Systems Activity and Access Records System will be established to maintain, plan, and manage computer system services. It is necessary to ensure security and proper use of OFHEO electronic information and computer systems and services.

DATES: Written comments must be received before March 8, 2006. The proposed new systems of records will become effective on March 20, 2006 unless OFHEO receives comments that would result in changes to the system of records.

ADDRESSES: You may submit your comments on the proposed new Privacy Act systems of records, identified by “Systems of Records,” by any of the following methods:

• U.S. Mail, United Parcel Post, Federal Express, or Other Mail Service: The mailing address for comments is: David A. Felt, Acting General Counsel, Attention: Comments/Systems of Records, Office of Federal Housing Enterprise Oversight, Fourth Floor, 1700 G Street, NW., Washington, DC 20552.

• Hand Delivery/Courier: The hand delivery address is: David A. Felt, Acting General Counsel, Attention: Comments/Systems of Records, Office of Federal Housing Enterprise Oversight, Fourth Floor, 1700 G Street, NW., Washington, DC 20552. The package should be logged at the Guard Desk, First Floor, on business days between 9 a.m. and 5 p.m.

• E-mail: RegComments@OFHEO.gov. Comments to David A. Felt, Acting General Counsel, may be sent by e-mail at RegComments@OFHEO.gov. Please include “Systems of Records” in the subject line of the message.

Posting of comments: All comments received will be posted without change to http://www.ofheo.gov, including any personal information provided. Copies of all comments received will be available for examination by the public on business days between the hours of 10 a.m. and 3 p.m., at the Office of Federal Housing Enterprise Oversight, Fourth Floor, 1700 G Street NW., Washington, DC 20552. To make an appointment to inspect comments, please call the Office of General Counsel at (202) 414-3751. See SUPPLEMENTARY INFORMATION for additional information on posting of comments.

FOR FURTHER INFORMATION CONTACT: Mary Alice Donner, Senior Counsel, telephone (202) 343-1319 (not a toll-free number); Office of Federal Housing Enterprise Oversight, Fourth Floor, 1700 G Street, NW., Washington, DC 20552. The telephone number for the Telecommunications Device for the Deaf is (800) 877-8339.

SUPPLEMENTARY INFORMATION Instructions: OFHEO requests that comments to the proposed new systems include the reference “Systems of Records” as well as your name and other contact information in the body of your comment. OFHEO further requests that comments submitted in hard copy also be accompanied by the electronic version in Microsoft® Word or in portable document format (PDF) on 3.5″ disk or CD-ROM. If OFHEO cannot read your comment due to technical difficulties and cannot contact you for clarification, OFHEO may not be able to consider your comment. Electronic files should avoid the use of special characters, and any form of encryption, and be free of any defects or viruses.

Introduction: This notice informs the public that OFHEO proposes to establish and maintain three new systems of records. This notice satisfies the Privacy Act requirement that an agency publish a system of records notice in the Federal Register when there is a revision, change, or addition to an agency's system of records. The proposed new systems of records are as follows:

OFHEO-06—Emergency Contingency Plan and Personnel Locator System

OFHEO-07—Mortgage Fraud System

OFHEO-08—Computer Systems Activity and Access Records System

As required by 5 U.S.C. 552a(r) of the Privacy Act and OMB Circular A-130, OFHEO has submitted a report describing the new systems of records covered by this notice to the Office of Management and Budget and to Congress. The three proposed new systems of records described above are set forth in their entirety below.

Stephen A. Blumenthal,
Acting Director.

OFHEO-06

System Name:

Emergency Contingency Plan and Personnel Locator System.

System Location:

The Emergency Contingency Plan and Personnel Locator System is located in the Office of Federal Housing Enterprise Oversight, 1700 G Street, NW., Fourth Floor, Washington, DC 20552, and any alternate work site utilized by employees of the Office of Federal Housing Enterprise Oversight (OFHEO) or individuals assisting such employees.

Categories Of Individuals Covered By The System:

The Emergency Contingency Plan and Personnel Locator System contains information about:

1. Current employees and contractors of OFHEO;

2. Private or Federal employees and contractors located at any OFHEO facility (headquarters, alternate work sites utilized by OFHEO employees, and off-site or emergency facility); and,

3. Other individuals including but not limited to employees of the Federal National Mortgage Association and the Federal Home Loan Mortgage Association (collectively referred to as the “Enterprises”), employees of the District of Columbia, and other key governmental and non-governmental persons essential to the successful implementation of an emergency preparedness and security plan.

Categories Of Records In The System:

The Emergency Contingency Plan and Personnel Locator System includes emergency notification rosters, fliers, files, and emergency assignments. It includes records of personal information on covered individuals including name, job title, work and home addresses, work and home phone and facsimile machine numbers, cell phone numbers, pager numbers, personal electronic mail addresses, and other emergency contact information (including personal local and out of area telephone numbers of Federal employees and their emergency contacts). System records may also include finger prints, and special needs and health information such as medical, mobility, and transportation requirements of individuals, and names of physicians of OFHEO employees and contractors and other information associated with identifying and contacting personnel in event of an emergency.

Authority For Maintenance Of The System:

The system is established and maintained pursuant to 12 U.S.C. 4513(b)(9), and Executive Order 12656.

Purposes:

The purpose of this system of records is to maintain emergency contact and other information for use in developing, maintaining, and implementing emergency plans, including a continuity of operations (COOP) and essential functions plan; and to maintain a facilities evacuation plan for OFHEO. The records maintained in this system will be used to notify, locate, and mobilize individuals as necessary, and evacuate facilities as necessary during emergency and threat situations.

Routine Uses Of Records Maintained In The System, Including Categories Of Users And The Purposes Of Such Uses:

In addition to the conditions of disclosure under 5 U.S.C. 552a(b) and in addition to the general routine uses identified in the Prefatory Statement of General Routine Uses, 63 FR 9007 (February 23, 1998), OFHEO staff may provide information in these records to:

1. Any Federal or local government authority responsible for responding to an emergency situation;

2. Facilities management personnel for all OFHEO locations (headquarters, alternate work sites utilized by OFHEO employees, and off-site or emergency facilities);

3. Other individuals, including employees of the Enterprises and other employees located at OFHEO facilities, as necessary to coordinate, review, implement, or practice OFHEO's COOP and essential functions plan or other emergency preparedness or security plan developed in response to security threats or Department of Homeland Security alerts.

Disclosure To Consumer Reporting Agencies:

None.

Policies And Practices For Storing, Retrieving, Accessing, Retaining, And Disposing Of Records In The System:

Storage:

Records are stored in electronic and paper format. Paper records are maintained in file folders, index cards, rolodex-type files, notebooks, or files. Computer files are maintained on magnetic tape, diskette, or other machine readable format.

Retrievability:

Records are retrievable by name, location, or other personal identifier listed above under “Categories of Records in the System.”

Safeguards:

Access to the records is restricted to those who require the records for the purpose for which the system is maintained.

Retention And Disposal:

Records are retained and disposed of in accordance with the appropriate National Archives and Records Administration General Records Schedule, and will be updated as appropriate.

System Manager and Address:

Executive Director, Office of Federal Housing Enterprise Oversight, 1700 G Street, NW., Washington, DC 20552.

Notification Procedure:

Contact the Privacy Act Officer, Office of Federal Housing Enterprise Oversight, 1700 G Street, NW., Fourth Floor, Washington, DC 20552.

Record Access Procedure:

The OFHEO regulation for providing access to records appears at 12 CFR part 1702. If additional information or assistance is required, contact the Privacy Act Officer, Office of Federal Housing Enterprise Oversight, 1700 G Street, NW., Fourth Floor, Washington, DC 20552.

Contesting Record Procedures:

The OFHEO regulation for contesting records procedures appears at 12 CFR part 1702. If additional information or assistance is required, contact the Privacy Act Appeals Officer, Office of Federal Housing Enterprise Oversight, 1700 G Street, NW., Fourth Floor, Washington, DC 20552.

Record Source Categories:

The information contained in these records is provided by or verified by the individual who is the subject of the record, the individual's supervisors, or official personnel or employment records.

Exemptions Claimed for the System:

None.

OFHEO—07

System Name:

Mortgage Fraud System.

System Location:

The Mortgage Fraud System is located in the Office of Federal Housing Enterprise Oversight, 1700 G Street, NW., Fourth Floor, Washington, DC 20552, and in any alternate work site utilized by employees of the Office of Federal Housing Enterprise Oversight (OFHEO) or individuals assisting such employees.

Categories of Individuals Covered by the System:

The Mortgage Fraud System contains information about:

1. Individuals or entities that are known perpetrators or suspected perpetrators of a known or possible mortgage fraud committed or attempted against the Federal National Mortgage Association (Fannie Mae) or the Federal Home Loan Mortgage Corporation (Freddie Mac) (collectively, the Enterprises).

2. In connection with any such known or possible mortgage fraud:

(a) Individuals who are directors, officers, employees, agents, of an Enterprise;

(b) Individuals or entities that are actual or potential victims of mortgage fraud;

(c) Individuals or entities involved;

(d) Individuals who are named as possible witnesses;

(e) Individuals or entities who have or might have information about reported matters;

(f) Individuals or entities named as preparers of any reports; or

(g) Individuals or entities named as persons to be contacted for assistance by OFHEO.

Categories of Records in the System:

The records in the Mortgage Fraud System contain information about the categories of persons or entities specified in “Categories of Individuals Covered by the System.” The records may also contain information pertaining to criminal prosecutions, civil actions, enforcement proceedings, and investigations resulting from or relating to the records.

Authority for Maintenance of the System:

The system is established and maintained pursuant to 12 U.S.C. 4513 and 12 CFR part 1731.

Purposes:

Mortgage fraud or possible mortgage fraud information is used by OFHEO in furtherance of its supervisory responsibilities to ensure the safe and sound operations of the Enterprises.

Routine Uses of Records Maintained in the System, Including Categories of Users and the Purposes of Such Uses:

In addition to the conditions of disclosure under 5 U.S.C. 552a(b), and in addition to the general routine uses identified in the Prefatory Statement of General Routine Uses in 63 FR 9007 (February 23, 1998), OFHEO may use the records contained in Mortgage Fraud System, to:

1. Provide information derived from the system to the Financial Crimes Enforcement Network, the Department of Housing and Urban Development, and other government authorities, as determined by OFHEO to be appropriate;

2. Disclose information or records to individuals or entities in furtherance of eliciting information pertinent to the supervisory responsibilities of OFHEO; and

3. Furnish analytic and statistical reports to government authorities and the public providing information about trends and patterns derived from information contained in the system, in a form in which individual identities are not revealed.

Disclosure to Consumer Reporting Agencies:

None.

Policies and Practices for Storing, Retrieving, Accessing, Retaining, and Disposing of Records in the System:

Storage:

Records are stored in electronic and paper format. Paper records are maintained in file folders, index cards, rolodex-type files, notebooks, or files. Computer files are maintained on magnetic tape, diskette, or other machine readable format.

Retrievability:

Data in the Mortgage Fraud System may be retrieved by sectionalized data fields or by the use of search and selection criteria, such as an individual's name.

Safeguards:

The system is located in a guarded building that has restricted access. Access to the computer facilities and any paper records is subject to additional physical safeguards that restrict access. Access to any electronic records in the system is restricted by means of passwords and non-transferable identifiers. Back-up magnetic tapes are kept in an off-site storage facility in Sterling, VA. Records in hard copy are maintained in locked file cabinets. Access is limited to those individuals who have an official need to know.

Retention and Disposal:

Records in this system will be updated periodically to reflect changes, and will be maintained in electronic form as long as needed for the purpose for which the information was collected. Records will be disposed of in accordance with applicable law.

System Manager(s) and Address:

Chief Information Officer, Office of Technology and Information Management, Office of Federal Housing Enterprise Oversight, 1700 G Street, NW., Fourth Floor, Washington, DC 20552.

Notification Procedure:

Contact the Privacy Act Officer, OFHEO, 1700 G Street, NW., Fourth Floor, Washington, DC 20552.

Record Access Procedure:

The OFHEO regulation for providing access to records appears at 12 CFR part 1702. If additional information or assistance is required, contact the Privacy Act Officer at OFHEO, 1700 G Street, NW., Fourth Floor, Washington, DC 20552.

Contesting Record Procedures:

The procedures for contesting initial denials for access to or amendment of records appears at 12 CFR part 1702. If additional information or assistance is required, contact the Privacy Act Appeals Officer at OFHEO, 1700 G Street, NW., Fourth Floor, Washington, DC 20552.

Record Source Categories:

Records in this system may be provided by the Enterprises and members of the public.

Exemptions Claimed For The System:

None.

OFHEO-08

System Name:

Computer Systems Activity and Access Records System.

System Location:

The Computer Systems Activity and Access Records System is located in the Office of Federal Housing Enterprise Oversight, 1700 G Street, NW., Fourth Floor, Washington, DC 20552, and in any alternate work site utilized by employees of the Office of Federal Housing Enterprise Oversight (OFHEO) or individuals assisting such employees.

Categories of Individuals Covered by the System:

All individuals who access, with or without authorization, OFHEO personal computers or mainframe servers, including individuals who send and receive electronic communications from or to OFHEO computers, access Internet/Intranet sites, or access system databases, files, or applications from OFHEO computers; and including individuals who access OFHEO systems from their personal residence or other remote location (remote access).

Categories of Records In The System:

Records and reports in the Computer Systems Activity and Access Records System may include:

1. The source Internet Protocol (IP) address to the computer used to access the system and date and time of log-on and log-off to the system;

2. The destination IP address of the site visited, which could include the Uniform Resource Locator (URL) address, date and time of the connection and disconnection, and size of the transmission;

3. Keywords propagated by Internet/Intranet Web sites;

4. Technical machine data as the system may generate, such as machine-name field and media access control address;

5. Electronic mail systems, including the e-mail address of sender and receiver of the electronic mail message, subject, date, and time;

6. Records on user access to OFHEO office automation networks as well as denials of access;

7. Records relating to mainframe/enterprise server access;

8. Verification and authorization records, such as user identifications, passwords, user names, title, and agency; and

9. Telecommunications logs and other information necessary to monitor and spot-check an individual's use of the OFHEO access systems and services and compliance with the OFHEO information systems guidelines and procedures, including those for remote access.

Authority For Maintenance of the System:

The system is established and maintained pursuant to 12 U.S.C. 4513(b)(9) and 44 U.S.C. 3544.

Purposes:

The underlying data in this system of records is used by OFHEO computer systems and security employees or persons authorized to assist these employees to plan and manage computer system services and to otherwise perform their official duties. Authorized OFHEO employees or contractors may use the records in the system to monitor an individual's use of the OFHEO access services, and to ensure compliance with the OFHEO information systems guidelines and procedures, including those for remote access. Authorized OFHEO employees or contractors may use the records in this system to investigate improper access or use related to the computer system; to initiate disciplinary or other actions related to improper access or use; or, where the record(s) may appear to indicate a violation or potential violation of law, to refer such record(s) to the appropriate investigative office within OFHEO or law enforcement agencies for investigation.

Routine Uses of Records Maintained In The System, Including categories of Users and the Purposes of Such Uses:

Routine uses shall be, in addition to the conditions of disclosure under 5 U.S.C. 552a(b), the general routine uses identified in the Prefatory Statement of General Routine Uses in 63 FR 9007 (February 23, 1998).

Disclosure To Consumer Reporting Agencies:

None.

Polices and Practices For Storing, retrieving, Accessing, Retaining, and Disposing of Records In The System Storage:

Records are stored in electronic and paper format. Paper records are maintained in file folders, index cards, rolodex-type files, notebooks, or files. Computer files are maintained on magnetic tape, diskette, or other machine readable format.

Retrievability:

The information can be retrieved by user name, user identification (ID), e-mail address, or other identifying search term employed, depending on the record category. OFHEO does not usually connect Internet Protocol (IP) addresses with a person, or retrieve information by user ID. However, in some instances, for official government business and law enforcement purposes, or to ensure compliance with the OFHEO information systems guidelines and procedures, including those for remote access, OFHEO may connect the IP address with an individual and may retrieve records by IP address, and information by user ID.

Safeguards:

Access is limited to those who have an official need to know. Only computer systems and security employees or individuals authorized to assist such employees have access to automated records and magnetic storage media. These records are kept in a locked room with controlled entry. The use of password protection identification features and other automated data processing system protection methods also restrict access. The back-up magnetic tapes are kept in an off-site storage facility in Sterling, VA. Records in hard copy are maintained in locked file cabinets and access is limited to those individuals who have an official need to know.

Retention and Disposal:

Records are retained and disposed of in accordance with the appropriate National Archives and Records Administration General Records Schedule, and will be updated as appropriate.

System Manager(s) and Address:

Chief Information Officer, Office of Technology and Information Management, Office of Federal Housing Enterprise Oversight, 1700 G Street, NW., Fourth Floor, Washington, DC 20552.

Notification Procedure:

Contact the Privacy Act Officer, OFHEO, 1700 G Street, NW., Fourth Floor, Washington, DC 20552.

Record Access Procedure:

The OFHEO regulation for providing access to records appears at 12 CFR part 1702. If additional information or assistance is required, contact the Privacy Act Officer at OFHEO, 1700 G Street, NW., Fourth Floor, Washington, DC 20552.

Contesting Record Procedures:

The procedures for contesting initial denials for access to or amendment of records appears at 12 CFR part 1702. If additional information or assistance is required, contact the Privacy Act Appeals Officer at OFHEO, 1700 G Street, NW., Fourth Floor, Washington, DC 20552.

Record Source Categories:

Information is collected from OFHEO personal computers and file servers. Most records are generated internally, such as by computer activity logs, individuals covered by the system, and management officials.

Exemptions Claimed For The System:

None.

[FR Doc. E6-1548 Filed 2-3-06; 8:45 am]

BILLING CODE 4210-27-P